DEPARTMENT OF LABOR

Employment and Training Administration

[TA-W-58,989]

Thermalcast, LLC, Formerly Known as Kennedy Die Castings, Inc., Worcester, MA; Notice of Termination of Investigation

Pursuant to section 221 of the Trade Act of 1974, as amended, an investigation was initiated on March 10, 2005 in response to a petition filed on behalf of workers of Thermalcast, LLC, formerly known as Kennedy Die Castings, Inc., Worcester, Massachusetts.

The petitioning worker group is covered by petition certification number TA-W-58,989, amended on March 23, 2006, to reflect the company name change from Kennedy Die Castings, Inc., to Thermalcast, LLC.

Consequently, further investigation in this case would serve no purpose, and the investigation has been terminated.

Signed at Washington, DC this 24th day of March 2006.
Linda G. Poole,
Certifying Officer, Division of Trade Adjustment Assistance.

[FR Doc. E6-5377 Filed 4-11-06; 8:45 am]

BILLING CODE 4510-30-P